DEPARTMENT OF TRANSPORTATION

Federal Aviation Administration

14 CFR Part 39

[Docket No. FAA-2011-0474; Directorate Identifier 2010-NM-213-AD; Amendment 39-16802; AD 2011-18-20]

RIN 2120-AA64

Airworthiness Directives; Airbus Model A330-200 and -300 Series Airplanes, and Model A340-200 and -300 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

It was noticed in production that the distance between the wire harnesses 5376VB/2M and 5377VB/1M which are above the left-hand (LH) and right-hand (RH) door 4, and the air conditioning duct could be too small. This could result in collision between the flexible air conditioning hose and wire harnesses.

This condition, if not corrected, could lead to the short circuit of wires dedicated to oxygen, which, in case of emergency, could result in a large number of passenger oxygen masks not being supplied with oxygen, possibly causing personal injuries.

* * * * *

We are issuing this AD to require actions to correct the unsafe condition on these products.

DATES: This AD becomes effective October 18, 2011.

The Director of the Federal Register approved the incorporation by reference of certain publications listed in this AD as of October 18, 2011.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Discussion

We issued a notice of proposed rulemaking (NPRM) to amend 14 CFR part 39 to include an AD that would apply to the specified products. That NPRM was published in the Federal Register on May 23, 2011 (76 FR 29673). That NPRM proposed to correct an unsafe condition for the specified products. The MCAI states:

It was noticed in production that the distance between the wire harnesses 5376VB/2M and 5377VB/1M which are above the left-hand (LH) and right-hand (RH) door 4, and the air conditioning duct could be too small. This could result in collision between the flexible air conditioning hose and wire harnesses.

This condition, if not corrected, could lead to the short circuit of wires dedicated to oxygen, which, in case of emergency, could result in a large number of passenger oxygen masks not being supplied with oxygen, possibly causing personal injuries.

For the reasons described above, this [EASA] AD requires the installation of a protective sleeve and an additional bracket to maintain the appropriate distance between wires.

Revision 1 of this [EASA] AD is issued to revise the applicability section of this AD in order to take into account all configurations of air conditioning duct and the associated solutions embodied in production.

For certain airplanes, required actions include modifying the support assembly of the air outlet. For other airplanes, required actions include exchanging certain attachment screws of the air outlet box assembly on each door. You may obtain further information by examining the MCAI in the AD docket.

Comments

We gave the public the opportunity to participate in developing this AD. We considered the comment received.

Request To Clarify Applicability

Delta Air Lines (Delta) asked that the applicability in the NPRM (76 FR 29673, May 23, 2011) be changed for clarification. Delta stated that its interpretation of paragraph (c)(3) of the applicability is that airplanes are exempt from the NPRM if Airbus Modification 201642 is embodied in production, or if Airbus Modification 57562 is embodied in production, or if both Airbus Modifications 57349 and 58924 are embodied in production. Delta noted that this interpretation does not align with the applicability in the EASA AD, which was issued to revise the applicability paragraph to take into account all configurations of the air conditioning duct and associated solutions embodied in production. Delta asked that paragraph (c) of the NPRM be changed to eliminate the possibility of incorrect interpretation, and included language for the clarification.

We agree for the reasons provided by the commenter. We have revised the format and punctuation of paragraph (c) of this AD for clarity.

Conclusion

We reviewed the available data, including the comment received, and determined that air safety and the public interest require adopting the AD with the change described previously. We determined that this change will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Costs of Compliance

We estimate that this AD affects about 41 products of U.S. registry. We also estimate that it will take up to 11 work-hours per product to comply with the basic requirements of this AD. The average labor rate is $85 per work-hour. Required parts will cost up to $503 per product. Where the service information lists required parts costs that are covered under warranty, we have assumed that there will be no charge for these costs. As we do not control warranty coverage for affected parties, some parties may incur costs higher than estimated here. Based on these figures, we estimate the cost of the AD on U.S. operators to be up to $58,958, or up to $1,438 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a ”significant regulatory action” under Executive Order 12866;

2. Is not a ”significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (76 FR 29673, May 23, 2011), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-18-20 Airbus: Amendment 39-16802. Docket No. FAA-2011-0474; Directorate Identifier 2010-NM-213-AD.

Effective Date

(a) This airworthiness directive (AD) becomes effective October 18, 2011.

Affected ADs

(b) None.

Applicability

(c) This AD applies to Airbus Model A330-201, -202, -203, -223, -243, -301, -302, -303, -321, -322, -323, -341, -342, and -343 airplanes; and Model A340-211, -212, -213, -311, -312, and -313 airplanes, all manufacturer serial numbers; certificated in any category; except those airplanes embodied in production with the modifications identified in paragraphs (c)(1) and (c)(2) of this AD.

(1) Modification 57349 and

(2) Modification 58924 or 201642 or 57562.

Subject

(d) Air Transport Association (ATA) of America Code 92.

Reason

(e) The mandatory continuing airworthiness information (MCAI) states:

It was noticed in production that the distance between the wire harnesses 5376VB/2M and 5377VB/1M which are above the left-hand (LH) and right-hand (RH) door 4, and the air conditioning duct could be too small. This could result in collision between the flexible air conditioning hose and wire harnesses.

This condition, if not corrected, could lead to the short circuit of wires dedicated to oxygen, which, in case of emergency, could result in a large number of passenger oxygen masks not being supplied with oxygen, possibly causing personal injuries.

* * * * *

Compliance

(f) You are responsible for having the actions required by this AD performed within the compliance times specified, unless the actions have already been done.

Actions

(g) Within 24 months after the effective date of this AD: Modify the wire harness 5376VB/2M and 5377VB/1M attachments above the LH and RH door 4, in accordance with the Accomplishment Instructions of Airbus Mandatory Service Bulletin A330-92-3077, Revision 01, dated March 29, 2010; or Airbus Mandatory Service Bulletin A340-92-4078, Revision 01, dated April 9, 2010; as applicable.

(h) For airplanes that have been modified before the effective date of this AD in accordance with the Accomplishment Instructions of Airbus Mandatory Service Bulletin A330-92-3077 or A340-92-4078, both dated June 17, 2008: Within 24 months after the effective date of this AD, perform the additional work identified in Airbus Mandatory Service Bulletin A330-92-3077, Revision 01, dated March 29, 2010, or A340-92-4078, Revision 01, dated April 9, 2010; as applicable (including modifying the support assembly of the air outlet, or exchanging certain attachment screws of the air outlet box assembly on each door, as applicable), in accordance with the Accomplishment Instructions of Airbus Mandatory Service Bulletin A330-92-3077, Revision 01, dated March 29, 2010; or Airbus Mandatory Service Bulletin A340-92-4078, Revision 01, dated April 9, 2010; as applicable.

FAA AD Differences

Note 1: This AD differs from the MCAI and/or service information as follows: No differences.

Other FAA AD Provisions

(i) The following provisions also apply to this AD:

(1) Alternative Methods of Compliance (AMOCs): The Manager, International Branch, ANM-116, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, Washington 98057-3356; telephone (425) 227-1138; fax (425) 227-1149. Information may be e-mailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(j) Refer to MCAI European Aviation Safety Agency Airworthiness Directive 2010-0103R1, dated April 28, 2011; Airbus Mandatory Service Bulletin A330-92-3077, Revision 01, dated March 29, 2010; and Airbus Mandatory Service Bulletin A340-92-4078, Revision 01, dated April 9, 2010; for related information.

Material Incorporated by Reference

(k) You must use Airbus Mandatory Service Bulletin A330-92-3077, Revision 01, dated March 29, 2010; or Airbus Mandatory Service Bulletin A340-92-4078, Revision 01, dated April 9, 2010; as applicable; to do the actions required by this AD, unless the AD specifies otherwise.

(1) The Director of the Federal Register approved the incorporation by reference of this service information under 5 U.S.C. 552(a) and 1 CFR part 51.

(2) For service information identified in this AD, contact Airbus SAS—Airworthiness Office—EAL, 1 Rond Point Maurice Bellonte, 31707 Blagnac Cedex, France; telephone +33 5 61 93 36 96; fax +33 5 61 93 45 80; e-mail airworthiness.A330-A340@airbus.com; Internet http://www.airbus.com.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at NARA, call 202-741-6030, or go to: http://www.archives.gov/federal_register/_code_of_federal_regulations/ibr_locations.html.

Issued in Renton, Washington, on August 25, 2011.
Ali Bahrami,
Manager, Transport Airplane Directorate, Aircraft Certification Service.

[FR Doc. 2011-22380 Filed 9-12-11; 8:45 am]

BILLING CODE 4910-13-P